DEPARTMENT OF ENERGY

Federal Energy Regulatory Commission

[Project No. 2652-007]

PacifiCorp, Montana; Notice of Availability of Draft Environmental Assessment

April 12, 2002.

In accordance with the National Environmental Policy Act of 1969 and the Federal Energy Regulatory Commission's (Commission) regulations, 18 CFR Part 380 (Order No. 486, 52 FR 47,897), the Office of Energy Projects staff has reviewed the application for a subsequent license for the Bigfork Hydroelectric Project located on the Swan River, in Flathead County, Montana, and has prepared a draft environmental assessment (EA) for the project. The project does not occupy any federal or tribal lands. In the draft EA, the Commission's staff has analyzed the potential environmental effects of the existing project and has concluded that approval of the project, with appropriate environmental protection measures, would not constitute a major federal action significantly affecting the quality of the human environment.

Copies of the draft EA can be viewed at the Commission's Reference and Information Center, Room 2A, 888 First Street, NE., Washington, DC 20426, or by calling 202-208-1371. The document also can be viewed on the web at http://rimsweb1.ferc.gov/rims (call 202-208-2222 for assistance).

Any comments should be filed by May 27, 2002, and should be addressed to Magalie R. Salas, Secretary, Federal Energy Regulatory Commission, 888 First Street, NE, Washington, DC 20426. Please add Project No. 2652-007 to all comments. Comments may be filed electronically via the Internet in lieu of paper; see 18 CFR 385.2001(a)(1)(iii) and the instructions on the Commission's web site at under “e-Filing” link.

For further information, contact Steve Hocking at 202-219-2656.

Magalie R. Salas,
Secretary.

[FR Doc. 02-9472 Filed 4-17-02; 8:45 am]

BILLING CODE 6717-01-P